DEPARTMENT OF DEFENSE

Office of the Secretary

[Docket ID: DOD-2024-OS-0151]

Submission for OMB Review; Comment Request

AGENCY: Office of the Under Secretary of Defense for Personnel and Readiness (OUSD (P&R)), Department of Defense (DoD).

ACTION: 30-day information collection notice.

SUMMARY: The DoD has submitted to OMB for clearance the following proposal for collection of information under the provisions of the Paperwork Reduction Act.

DATES: Consideration will be given to all comments received by April 2, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Combat Related Special Compensation and Reconsideration Forms; DD 2860, DD3210; OMB Control Number 0704-CRSC.

Type of Request: New.

Number of Respondents: 22,500.

Responses Per Respondent: 1.

Annual Responses: 22,500.

Average Burden Per Response: 15 minutes.

Annual Burden Hours: 5,625 hours.

Needs and Uses: This information collection requirement is necessary for both the initial review of information and determination of eligibility benefits for the Combat Related Special Compensation (CRSC) Program and to obtain and record additional information for reconsideration into the CRSC Program if the service member has been previously denied entry due to failure to meet program criteria. The reconsideration form is used to gain and collect new and substantive documentation that supports the request of the service member's qualifications for the CRSC Program.

Affected Public: Individuals or households.

Frequency: As required.

Respondent's Obligation: Voluntary.

DOD Clearance Officer: Mr. Reginald Lucas.

Dated: February 27, 2026.
Stephanie J. Bost,
Alternate OSD Federal Register Liaison Officer, Department of Defense.

[FR Doc. 2026-04195 Filed 3-2-26; 8:45 am]

BILLING CODE 6001-FR-P